FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011730-006.

Title: GWF/Dole Space Charter and Sailing Agreement.

Parties: Dole Ocean Cargo Express, Inc. and Great White Fleet Liner Services Ltd.

Filing Party: Wade S. Hooker, Esq., 211 Central Park West, New York, NY 10024.

Synopsis: The amendment updates the address of one of the parties, Great White Fleet Liner Services Ltd.

Agreement No.: 012178-002.

Title: GWF/Crowley Space Charter Agreement.

Parties: Great White Fleet Liner Services Ltd. and Crowley Latin American Services, LLC.

Filing Party: Wade S. Hooker, Esquire, 211 Central Park W., New York, N.Y. 10024.

Synopsis: The amendment changes the address of Great White Fleet Liner Services.

Agreement No.: 012435.

Title: CMA CGM/HLAG U.S.-West Med Slot Sale Arrangement.

Parties: Hapag-Lloyd AG and CMA CGM S.A.

Filing Party: Wayne Rohde, Esq., Cozen O'Connor, 1200 Nineteenth Street NW., Washington, DC 20036.

Synopsis: The Agreement authorizes CMA CGM to sell space to Hapag Lloyd in the trade from Italy and Spain to ports in Mexico, Jamaica and on the U.S. Gulf Coast.

By Order of the Federal Maritime Commission.
Dated: August 26, 2016.
Karen V. Gregory,
Secretary.

[FR Doc. 2016-20999 Filed 8-31-16; 8:45 am]

BILLING CODE 6731-AA-P